DEPARTMENT OF AGRICULTURE

Food Safety and Inspection Service

[Docket No. 03-005N]

Listeria Risk Assessment Technical Meeting—Notice of Availability and Public Meeting; Correction

AGENCY: Food Safety and Inspection Service, USDA.

ACTION: Notice; correction.

SUMMARY: The Food Safety and Inspection Service (FSIS) published a document in the Federal Register of February 6, 2003 concerning a Listeria risk assessment technical meeting and availability of, and request for public comment on, its draft risk assessment for Listeria.

The document contained the incorrect comment due date for comments on the draft risk assessment.

FOR FURTHER INFORMATION CONTACT: Moshe Dreyfuss at (202) 205-0260.

Correction

In the Federal Register of February 6, 2003, (68 FR 6109), in the second column, in the DATES paragraph, the comment due date is incorrect and should read “Submit written comments on the draft risk assessment on or before Friday, March 14, 2003.”

Done at Washington, DC, on: February 21, 2003.
Linda M. Swacina,
Associate Administrator.

[FR Doc. 03-4540 Filed 2-21-03; 2:14 pm]

BILLING CODE 3410-DM-P